DEPARTMENT OF LABOR

Employment and Training Administration

[TA-W-73,086]

J.I.T. Tool and Die, Inc., Brockport, PA; Notice of Termination of Investigation

Pursuant to Section 223 of the Trade Act of 1974, as amended, an investigation was initiated in response to a petition filed on December 14, 2009 by a company official on behalf of workers of J.I.T. Tool and Die, Inc., Brockport, Pennsylvania.

The petitioner has requested that the petition be withdrawn. Accordingly, the investigation has been terminated.

Signed at Washington, DC, this 28th day of January 2010.
Elliott S. Kushner,
Certifying Officer, Division of Trade Adjustment Assistance.

[FR Doc. 2010-5364 Filed 3-11-10; 8:45 am]

BILLING CODE 4510-FN-P